SECURITIES AND EXCHANGE COMMISSION

[Release No. 34-65008; File No. SR-NSCC-2011-06]

Self-Regulatory Organizations; National Securities Clearing Corporation; Notice of Filing and Immediate Effectiveness of Proposed Rule Change Relating to the Analytic Reporting Service Fees

August 2, 2011.

Pursuant to Section 19(b)(1) of the Securities Exchange Act of 1934 (“Act”),¹ notice is hereby given that on July 21, 2011, the National Securities Clearing Corporation (“NSCC”) filed with the Securities and Exchange Commission (“Commission”) the proposed rule change as described in Items I and II below, which Items have been prepared primarily by NSCC. NSCC filed the proposed rule change pursuant to Section 19(b)(3)(A)(ii) of the Act ² and Rule 19b-4(f)(2) thereunder ³ so that the proposal was effective upon filing with the Commission. The Commission is publishing this notice to solicit comments on the proposed rule change from interested persons.

¹ 15 U.S.C. 78s(b)(1).

² 15 U.S.C. 78s(b)(3)(A)(ii).

³ 17 CFR 240.19b-4(f)(2).

I. Self-Regulatory Organization's Statement of Terms of Substance of the Proposed Rule Change

The proposed rule change will add new fees for NSCC's Analytics Reporting Service.

II. Self-Regulatory Organization's Statement of Purpose of, and Statutory Basis for, the Proposed Rule Change

In its filing with the Commission, NSCC included statements concerning the purpose of and basis for the proposed rule change and discussed any comments it received on the proposed rule change. The text of these statements may be examined at the places specified in Item IV below. NSCC has prepared summaries, set forth in sections A, B, and C below, of the most significant aspects of such statements.

A. Self-Regulatory Organization's Statement of the Purpose of, and Statutory Basis for, the Proposed Rule Change

The purpose of the proposed rule change is to revise NSCC's fee schedule as listed in Addendum A of NSCC's Rules and Procedures in order to establish the fees applicable to Insurance Product Service (“IPS”) Members and Limited Members (collectively, “IPS Members”) using NSCC's IPS Analytic Reporting Service.

On June 20, 2011, NSCC IPS launched its new IPS Analytic Reporting Service (“Service”).⁴ NSCC has offered the Service to its IPS Members free of charge since its implementation. Effective September 1, 2011, NSCC will apply the fees applicable to the new Service to IPS Members, including IPS Members whom have “opted-out” as that term is defined in Rule 57 of NSCC's Rules and Procedures.⁵ The fees for the Analytic Reporting Service will be as follows:

⁴ For a description of NSCC's IPS Analytic Reporting Service, refer to Securities Exchange Act Release Nos. 63604 (Dec. 23, 2010), 75 FR 82115 (Dec. 29, 2010), and 64666 (Jun. 14, 2011), FR 35931 (Jun. 20, 2011).

⁵ NSCC's Rules and Procedures can be found at http://www.dtcc.com/legal/rules_proc/nscc_rules.pdf.

⁶ Roll out of each subsequent Release Version will be based on client feedback and the timing of functionality enhancements. Roll out of each subsequent Release Version supersedes and replaces the immediately preceding Release Version.

⁷ Tier 1 = Carriers with $25 billion or more in assets; Dealers with 10,000 or more financial advisors.

Version ⁶ | Tier 1 ⁷ | Tier 2 ⁸ | Tier 3 ⁹ | Opt-out members
Release 1.0 | $1,000 | $750 | $500 | $1,667
Release 2.0 | 3,000 | 2,250 | 1,500 | 5,000
Release 3.0 | 8,000 | 6,000 | 4,000 | 13,333
Release 4.0 | 10,500 | 7,875 | 5,250 | 17,500
Release 5.0 | 12,000 | 9,000 | 6,000 | 20,000

NSCC states that the proposed rule change is consistent with the requirements of Section 17A of the Act ¹⁰ and the rules and regulations thereunder because it updates NSCC's fee schedule to specify the fees associated with a service provided by NSCC and provides for the equitable allocation of fees among NSCC's members.

⁸ Tier 2 = Carriers with $4 billion or more but less than $25 billion in assets; Dealers with 3,000 or more, but less than 10,000, financial advisors.

⁹ Tier 3 = Carriers with less than $4 billion in assets; Dealers with less than 3,000 financial advisors.

¹⁰ 15 U.S.C. 78q-1.

B. Self-Regulatory Organization's Statement on Burden on Competition

NSCC does not believe that the proposed rule change will have any impact or impose any burden on competition.

C. Self-Regulatory Organization's Statement on Comments on the Proposed Rule Change Received From Members, Participants, or Others

NSCC has not solicited or received written comments relating to the proposed rule change. NSCC will notify the Commission of any written comments it receives.

III. Date of Effectiveness of the Proposed Rule Change and Timing for Commission Action

The foregoing rule change has become effective upon filing pursuant to Section 19(b)(3)(A)(ii) of the Act ¹¹ and Rule 19b-4(f)(2) ¹² thereunder because the proposed rule change establishes or changes a due, fee, or other charge applicable only to a member. At any time within 60 days of the filing of the proposed rule change, the Commission summarily may temporarily suspend such rule change if it appears to the Commission that such action is necessary or appropriate in the public interest, for the protection of investors, or otherwise in furtherance of the purposes of the Act.

¹¹ Supra note 2.

¹² Supra note 3.

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml) or

• Send an e-mail to rule-comments@sec.gov. Please include File No. SR-NSCC-2011-06 on the subject line.

Paper Comments

• Send paper comments in triplicate to Elizabeth M. Murphy, Secretary, Securities and Exchange Commission, 100 F Street, NE., Washington, DC 20549-1090.

All submissions should refer to File No. SR-NSCC-2011-06. This file number should be included on the subject line if e-mail is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street, NE., Washington, DC 20549, on official business days between the hours of 10 a.m. and 3 p.m. Copies of such filings also will be available for inspection and copying at NSCC's principal office and NSCC's Web site at http://www.dtcc.com/downloads/legal/rule_filings/2011/nscc/2011-06.pdf. All comments received will be posted without change; the Commission does not edit personal identifying information from submissions. You should submit only information that you wish to make available publicly. All submissions should refer to File No. SR-NSCC-2011-06 and should be submitted on or before August 29, 2011.

For the Commission by the Division of Trading and Markets, pursuant to delegated authority.¹³
¹³ 17 CFR 200.30-3(a)(12).
Elizabeth M. Murphy,
Secretary.

[FR Doc. 2011-19980 Filed 8-5-11; 8:45 am]

BILLING CODE 8011-01-P